DEPARTMENT OF JUSTIC

Antitrust Division

Notice Pursuant to the National Cooperative Research and Production Act of 1993—Siemens Westinghouse: Dual-Fuel Catalytic Combustion for Advanced Gas Turbines

Notice is hereby given that, on July 20, 1999, pursuant to Section 6(a) of the National Cooperative Research and Production Act of 1993, 15 U.S.C. 4301 et seq. (“the Act”), Siemens Westinghouse: Dual-Fuel Catalytic Combustion for Advanced Gas Turbines has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Siemens Westinghouse Power Corporation, Orlando, FL; and Precision Combustion, Incorporated, New Haven, CT. The nature and objectives of the venture are to develop a dual-fuel catalytic system for high-temperature gas turbine engines for the power generation industry under the subject Advanced Technology Program of the National Institute of Standards and Technology, Department of Commerce.

Constance K. Robinson,
Director of Operations Antitrust Division

[FR Doc. 00-10599 Filed 4-27-00; 8:45 am]

BILLING CODE 4410-11-M